POSTAL SERVICE

39 CFR Part 111

Repositionable Notes on Letter and Flat Sized Mailpieces

AGENCY: Postal Service.

ACTION: Interim rule.

SUMMARY: The Postal Service is implementing an experimental classification, Repositionable Notes (RPNs), as a one-year provisional service allowing mailers to attach a reusable self-adhesive message note to the outside envelope or paper cover of discount First-Class Mail, Standard Mail, or Periodicals rate mailpieces for a fee. RPNs add impact, value, and ultimately a greater return on investment for direct mailers by calling attention to a product or service. This enhanced value to direct mail will provide an opportunity for the Postal Service to drive the growth of direct mail.

DATES: Effective Date: This interim rule is effective on April 3, 2005, and expires on April 3, 2006.

FOR FURTHER INFORMATION CONTACT: Donald Lagasse, 202-268-7269; Donald.T.Lagasse@usps.gov.

SUPPLEMENTARY INFORMATION: On January 11, 2005, following the recommended decision of the Postal Rate Commission issued on December 10, 2004, the Governors of the Postal Service approved a provisional classification for repositionable notes (RPN). It is important to note that this provisional classification does not change any of the current rate eligibility standards for discount First-Class Mail and Standard Mail letters.

The current standards allow mailers to place RPNs on First-Class Mail and Standard Mail letter-size mailpieces claimed at automation rates at no additional charge. This provisional classification applies a fee to the use of RPNs and expands the current standards to allow RPNs on all letter-size and flat-size mailpieces mailed at discount First-Class Mail, Standard Mail, or Periodicals rates.

To be eligible, RPNs attached to discount First-Class Mail, Standard Mail, or Periodicals rate pieces must meet the standards for RPNs in this interim rule. RPNs must:

• Measure 3 inches by 3 inches, plus or minus ⅛ inch for either dimension.

• Not contain phosphorescent or red fluorescent colorants.

• Not be manually affixed.

• Be adhered with a ¾ inch (plus ¾ inch or minus 1/16 inch) adhesive strip across the top portion on the reverse side of the note.

• Not be placed in a manner that interferes with the delivery address, rate markings, or postage.

• Not display a specific address or ZIP Code. References to general landmarks are permissible.

In addition to the physical standards stated above, the written and graphic characteristics of the information appearing on RPNs are considered when determining eligibility of mailpieces mailed at Standard Mail and Nonprofit Standard Mail rates.

In addition to the postage for the host piece, the rates for RPNs are as follows:

• $0.005 (½ cent) per piece for RPNs attached to discount First-Class Mail letter- or flat-size pieces.

• $0.015 (1½ cents) per piece for RPNs attached to Standard Mail or Periodicals letter- or flat-size pieces.

Again, note that current rate eligibility standards for discount First-Class Mail and Standard Mail letter-size mailpieces are staying the same.

This provisional service will be implemented on April 3, 2005, and expire on April 3, 2006. The Postal Service will give notice before expiration about whether the service will be allowed to expire, made permanent, or extended in some way.

Accordingly, the Postal Service hereby adopts the following regulations on an interim basis. Although exempt from the notice and comment requirements of the Administrative Procedure Act (5 U.S.C. 410 (a)), the Postal Service invites comments on the following revisions to the Domestic Mail Manual, incorporated by reference in the Code of Federal Regulations. See 39 CFR Part 111.

List of Subjects in 39 CFR Part 111

Administrative Practice and Procedure, Postal Service.

PART 111—[AMENDED]

1. The authority citation for 39 CFR part 111 continues to read as follows:

Authority: U.S.C. 552(a); 39 U.S.C. 101, 401, 403, 404, 414, 3001-3011, 3201-3219, 3403-3406, 3621, 3626, 5001.

2. Revise the following sections of the Domestic Mail Manual (DMM) as set forth below:

C Characteristics

* * * * *

C800 Automation-Compatible Mail

* * * * *

C810 Letters and Cards

* * * * *

7.0 REPOSITIONABLE NOTES

[Remove C810.7 and all subsections. This will be moved to the G900 section in order to change this service to an experiment.]

* * * * *

G General Information

* * * * *

G000 The USPS and Mailing Standards

* * * * *

G040 Information Resources

* * * * *

G043 Address List for Correspondence

[Remove address for Product Management—Correspondence and Transactions.]

* * * * *

G900 Experimental Classification and Rate Filings

* * * * *

G990 Experimental Classifications and Rates

* * * * *

[Add new G994 to read as follows:]

G994 Repositionable Notes

1.0 USE

a. Repositionable Notes (RPN) may be attached to letter- and flat-size discount First-Class Mail, Standard Mail, and Periodicals mailpieces.

b. For letter-size mailpieces, a single RPN may be attached only to the address side of the mailpiece.

c. For flat-size mailpieces, a single RPN may be attached to either the address side or non-address side of the mailpiece and attached in the locations described and shown in Exhibits 3.0a and 3.0b.

d. RPNs are included as an integral part of the mailpiece for weight and postage rate computation purposes.

e. The written and graphic characteristics of the notes are considered when determining eligibility of mailpieces mailed at the Standard Mail and Nonprofit Standard Mail rates.

2.0 MAILPIECE CHARACTERISTICS

Each mailpiece must:

a. Not be in a plastic wrapper (e.g., polybag, polywrap, or shrinkwrap).

b. Be letter-size (including cards) or flat-size.

3.0 RPN CHARACTERISTICS

RPNs must:

a. Measure 3 inches by 3 inches, plus or minus ⅛ inch for either dimension.

b. Not contain phosphorescent or red fluorescent colorants.

c. Be adhered with a ¾ inch (plus ¼ inch or minus 1/16 inch) adhesive strip across the top portion on the reverse side of the note.

d. Not be placed in a manner that interferes with the delivery address, rate markings, or postage and must not display a specific address or ZIP Code. References to general landmarks are permissible.

e. Not be manually affixed.

f. On letter-size mailpieces, be positioned parallel with the length of the piece, affixed by standard labeling equipment, placed no closer than ⅜ inch from the left edge of the delivery address, and be at least ½ inch (plus or minus ⅛ inch) from the bottom and left edges of the mailpiece.

g. On flat-size mailpieces, be positioned according to Exhibit 3.0a if the RPN is placed on the address side of the flat or Exhibit 3.0b if the RPN is placed on the non-addressed side of the mailpiece.

Exhibit 3.0a Placing RPNs on Flats—Address Side

Exhibit 3.0b Placing RPNs on Flats—Non-address Side

4.0 RPNs ON AUTOMATION-RATE MAILPIECES

4.1 Letter-Size Pieces

Letter-size mailpieces with RPNS claiming automation rates must meet the standards in 1.0-3.0, C810, and the following additional standards:

a. Each mailpiece must be rectangular and have a surface smoothness of 195 Shefield Units or smoother.

b. Enveloped mailpieces. Each mailpiece prepared in an envelope must be constructed from paperstock having a basis weight of 20 pounds or greater. Window envelopes must have a closed panel made of polystyrene or glassine. Each enveloped mailpiece is limited to the following dimensions:

(1) For height, no less than 4⅛ inches and no more than 6 inches high.

(2) For length, no less than 8 inches and no more than 9½ inches long.

(3) For thickness, no less than 0.02 inch and no more than 0.125 inch thick.

c. Oversize cards. Each mailpiece prepared as an oversize card is limited to the following dimensions:

(1) For height, no less than 4½ inches and no more than 6 inches high.

(2) For length, no less than 8½ inches and no more than 9 inches long.

(3) For thickness, no less than 0.009 inch thick (cards 5¾ inches or more in height must be no less than 0.012 inch thick.)

4.2 Flat-Size Pieces

Flat-size mailpieces with RPNs claiming automation rates must meet the standards in 1.0-3.0 and C820:

5.0 RATES

Discount First-Class Mail—$0.005

Standard Mail and Periodicals—$0.015

6.0 COMPLIANCE

Mailers must comply as follows:

a. Repositionable notes must be obtained from an approved repositionable notes vendor (see www.usps.com for a listing of approved vendors). Prospective vendors can obtain USPS standards and test procedures from USPS Engineering (see G043 for address). Testing must be performed by a certified independent laboratory.

b. Mailers must present evidence at the time of mailing to show that their repositionable notes have been supplied by an approved vendor. The vendor name on the reverse of the note will be sufficient as evidence; in lieu of the vendor name printed on the notes, an invoice from the approved vendor for purchase of the repositionable notes will constitute such evidence.

c. Each mailing must include, as part of the mailing, two pieces addressed to the manager, USPS Engineering Letter Tech (Attn: RPN Sample), and two pieces addressed to the Manager, Pricing and Classification Service Center (Attn: RPN Sample). See G043 for addresses.

* * * * *

An appropriate amendment to 39 CFR part 111 will be published to reflect these changes.

Neva Watson,
Attorney, Legislative.

[FR Doc. 05-1699 Filed 1-31-05; 8:45 am]

BILLING CODE 7710-12-P